DEPARTMENT OF ENERGY

Office of Energy Efficiency and Renewable Energy

10 CFR Part 430

[Docket No. EE-RM-94-403]

RIN 1904-AA67

Energy Conservation Program for Consumer Products; Clothes Washer Energy Conservation Standards

AGENCY: Department of Energy (DOE).

ACTION: Final rule; delay of effective date and correcting amendment.

SUMMARY: In accordance with the memorandum of January 20, 2001, from the Assistant to the President and Chief of Staff, entitled “Regulatory Review Plan” (66 FR 7702, January 24, 2001), DOE publishes a rule today that temporarily delays for 60 days the effective date of the amendments to appendix J to subpart B of part 430 for the final rule for the Energy Conservation Program for Consumer Products; Clothes Washer Energy Conservation Standards. This rule also corrects the text of that appendix.

DATES: The effective date of the rule amending 10 CFR part 430 published at 66 FR 3314, January 12, 2001 remains January 1, 2004, except that the effective date of the amendments to appendix J to subpart B of part 430 is delayed until April 13, 2001. The correcting amendment in this rule is effective April 13, 2001.

FOR FURTHER INFORMATION CONTACT: Michael D. Whatley, (202) 586-3410, michael.whatley@hq.doe.gov; Bryan Berringer, (202) 586-0371, bryan.berringer@ee.doe.gov; or, Eugene Margolis, (202) 586-9526, eugene.margolis@hq.doe.gov.

SUPPLEMENTARY INFORMATION: DOE publishes a rule today that temporarily delays for 60 days the effective date of the amendments to appendix J to subpart B of part 430 for the final rule for the Energy Conservation Program for Consumer Products; Clothes Washer Energy Conservation Standards. This document also corrects the text in appendix J of 10 CFR part 430 of the Code of Federal Regulations. To the extent that 5 U.S.C. section 553 applies to this action, it is exempt from notice and comment because it constitutes a rule of procedure under 5 U.S.C. section 553(b)(A). Alternatively, DOE's implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give DOE officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

List of Subjects in 10 CFR Part 430

Administrative practice and procedure, Energy conservation, Household appliances, Incorporation by reference.

Accordingly, 10 CFR part 430 is corrected by making the following correcting amendment:

PART 430—ENERGY CONSERVATION PROGRAM FOR CONSUMER PRODUCTS

1. The authority citation for part 430 continues to read as follows:

Authority: 42 U.S.C. 6291-6309; 28 U.S.C. 2461 note.

Appendix J [Amended]

2. Appendix J to subpart B of part 430 is amended in the first sentence of the introductory paragraph by removing the date “February 12, 2001” and adding in its place “April 13, 2001”.

Issued in Washington, D.C. on January 29, 2001.
Spencer Abraham,
Secretary of Energy.

[FR Doc. 01-2884 Filed 2-1-01; 8:45 am]

BILLING CODE 6450-01-P